DEPARTMENT OF HOUSING AND URBAN DEVELOPMENT

[Docket No. FR-7034-N-22]

30-Day Notice of Proposed Information Collection: Veterans Housing Rehabilitation and Modification and Pilot Program; OMB Control No. 2506-0213

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: May 26, 2021.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on March 1, 2021, at 86 FR 12018.

A. Overview of Information Collection

Title of Information Collection: Veterans Housing Rehabilitation and Modification and Pilot Program.

OMB Approval Number: 2506-0213.

Type of Request: Extension of currently approved collection.

Form Number: SF-424; HUD 424CB; HUD 424-CBW; SF-LLL; HUD 2880; HUD 2990; HUD 2991; HUD 2993; HUD 2994A; HUD 27061; and HUD 27300.

Description of the need for the information and proposed use: The Veterans Housing Rehabilitation and Modification Pilot Program funding in FY 2020 was provided under the Further Consolidated Appropriations Act, 2020 (Pub. L. 116-94, approved December 20, 2019), the Consolidated Appropriations Act of 2018 (Pub. L. 115-141), and the Consolidated Appropriations Action, 2019 (Pub. L. 116-6). The purpose of VHRMP is to award grants to nonprofit veteran's service organizations to rehabilitate and modify the primary residence of disabled and low-income veterans. The program goal is to support eligible activities that serve the following objectives: (1) Modify and rehabilitate the primary residence of disabled and low-income veterans; (2) rehabilitate such residence that is in a state of interior and exterior disrepair; and (3) install energy efficient features or equipment. Information is required to rate and rank competitive applications and to ensure eligibility of applicants for funding. Quarterly reporting is required to monitor grant management.

Information collection | Frequency of responses | Number of respondents | Responses per annum | Burden hour per response | Annual burden hours | Hourly cost per hour | Total
HUD-424CB | 200.00 | 1 | 200.00 | 2.60 | 520.00 | $70.45 | 36,634.00
HUD-424CBW | 200.00 | 1 | 200.00 | 3.12 | 624.00 | 70.45 | 43,960.80
HUD-2880 | 200.00 | 1 | 200.00 | 2.00 | 400.00 | 70.45 | 28,180.00
HUD-2991 | 200.00 | 1 | 200.00 | 0.00 |  | 70.45
HUD-2993 | 200.00 | 1 | 200.00 | 0.00 |  | 70.45
HUD-2994A | 200.00 | 1 | 200.00 | 0.50 | 100.00 | 70.45 | 7,045.00
HUD-27061 | 200.00 | 1 | 200.00 | 0.50 | 100.00 | 70.45 | 7,045.00
HUD-27300 | 200.00 | 1 | 200.00 | 3.00 | 600.00 | 70.45 | 42,270.00
Total |  |  |  | 11.72 |  |  | 165,134.80

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna P. Guido,
Department Reports Management Officer, Office of the Chief Information Officer.

[FR Doc. 2021-08095 Filed 4-23-21; 8:45 am]

BILLING CODE 4210-67-P